DEPARTMENT OF TRANSPORTATION

National Highway Traffic Safety Administration

Denial of Motor Vehicle Defect Petition, DP15-003

AGENCY: National Highway Traffic Safety Administration (NHTSA), Department of Transportation (DOT).

ACTION: Denial of petition for a defect investigation.

SUMMARY: This notice states the reasons for denying a petition (DP 15-003) submitted to NHTSA under 49 U.S.C. 30162, 49 CFR part 522, requesting that the agency open an investigation into delamination or separation of the back glass from the convertible top material on model year 2005 Chrysler Crossfire vehicles.

FOR FURTHER INFORMATION CONTACT: Mr. John Abbott, Office of Defects Investigation (ODI), NHTSA; 1200 New Jersey Avenue SE., Washington, DC 20590. Telephone: (202) 366-5221. Email: John.Abbott@dot.gov.

SUPPLEMENTARY INFORMATION:

I. Introduction

Interested persons may petition NHTSA requesting that the Agency initiate an investigation to determine whether a motor vehicle or item of replacement equipment does not comply with an applicable motor vehicle safety standard or contains a defect that relates to motor vehicle safety. 49 U.S.C. 30162(a) (2): 49 CFR 522.1. Upon receipt of a properly filed petition, the agency conducts a technical review of the petition, material submitted with the petition, and any additional information. 49 U.S.C. 30162(c); 49 CFR 552.6. After considering the technical review and taking into account appropriate factors, which may include, among others, allocation of agency resources, agency priorities, and the likelihood of success in litigation that might arise from a determination of noncompliance or a defect related to motor vehicle safety, the agency will grant or deny the petition. 49 U.S.C. 30162(d): 49 CFR 552.8.

II. Petition Background Information

In a letter dated June 14, 2014, Mr. Wayne DeVries petitioned NHTSA to, “. . . hold a hearing on whether this manufacturer [Chrysler] has reasonably met its obligation to notify and/or remedy a safety defect or noncompliance with a Federal Motor Vehicle Safety Standard.” The petition request was in reference to model year (MY) 2005 Chrysler Crossfire Roadster vehicles in which the convertible top back glass can delaminate or separate from its adhesive bond to the convertible top material.

Part 557 of Title 49 of the Code of Federal Regulations (CFR), establishes the procedures for conducting a hearing to determine whether a manufacturer has reasonably met its obligation to notify owners of a safety related defect and provide a remedy for that defect. Before the agency can hold such a hearing, a determination that a defect exists must be made either by the manufacturer or the agency. Because a safety related defect has not been determined by either Chrysler, or the agency, regarding the convertible top back glass in MY 2005 Crossfire Roadster vehicles, ODI interpreted Mr. DeVries letter as a request for a Defect Petition. In accordance with Title 49 CFR part 522, Petitions for Rulemaking, Defects, and Noncompliance Orders, NHTSA conducted a review of the petition and other information to decide whether to open a formal investigation to determine if a safety related defect exists in MY 2005 Crossfire Roadsters.

III. ODI Analysis of the Defect Petition Request

To assess the petitioner's request and his complaint as to whether separation of the convertible top back glass in MY 2005 Crossfire Roadster vehicles demonstrates or presents an unreasonable risk to motor vehicle safety, ODI reviewed and analyzed the following information and conducted telephone interviews with complainants:

• A review of all of the petitioner's letters and VOQ's;

• A review of the petitioner's vehicle experience;

• A review of a Chrysler warranty policy extension;

• A review of all potentially related VOQs for all model year Crossfire Roadsters;

• Telephone interviews with complainants;

• A review of Federal Motor Vehicle Safety Standards (FMVSS); and,

• A review and analysis of complaint, claim, field report, and warranty information from Chrysler LLC. (Chrysler), and Fiat Chrysler Automobiles US, LLC. (FCA) provided in response to an ODI information request.

Petitioner's Complaint

Between May 2013 and August 2014, the petitioner sent five letters to NHTSA, and filed an additional five Vehicle Owner Questionnaires (VOQ), concerning the convertible top back glass in MY 2005 Crossfire Roadster vehicles. The petitioner's concern is that the adhesive that bonds the back glass to the inside of the convertible top fails. When the adhesive fails, the glass falls inside the vehicle and, if it separates completely from the top, will no longer be attached to any structure that controls movement. His correspondence offers many varied and different scenarios of possible consequences from delamination or separation of the glass from the convertible top. The petitioner believes that the design, construction, and attachment of any window is critical to the safe operation of the vehicle as intended, under any conditions such as inclement weather, highway speeds, etc., and that the separation of the rear glass in the subject vehicles poses an unreasonable risk to motor vehicle safety. Finally, the petitioner suggests that Chrysler's limited extended warranty policy covering the glass is “unreasonable” because it is limited to vehicles that were originally sold in certain states.

Petitioner's Vehicle Experience

The petitioner owns a MY 2005 Crossfire Roadster and resides in California. His vehicle was not included in Chrysler's extended warranty as his vehicle was originally sold in California. According to the petitioner, he noted the convertible top back glass was starting to delaminate/separate from the convertible top at the driver's side lower corner. As a precaution, and to prevent it from separating completely, the glass was propped-up from the inside of the vehicle and taped to the convertible top material on the outside of the vehicle. The petitioner's attempts to have the vehicle's convertible top replaced at Chrysler's expense were unsuccessful. According to the petitioner, replacement of the entire convertible top is the only viable remedy offered by Chrysler once the rear glass separates from the top. Ultimately, the petitioner paid to have the top replaced.

Summary of Chryslers Extended Warranty

In September 2011 Chrysler notified its dealer network via “Warranty Bulletin” that it would extend the warranty for convertible top back glass adhesion in MY 2005 Crossfire Roadsters. The warranty extension covers these vehicles for 10 years or 100,000 miles, whichever occurs first, for vehicles shipped to dealers in the states of Alabama, Florida, Georgia, Louisiana, Missouri, North Carolina, South Carolina, Tennessee, and Texas. No other Crossfire Roadsters were included in the extended warranty. For vehicles subject to this extended warranty, Chrysler will replace the entire convertible top if the rear glass separates from the top within 10 years or 100,000 miles.

Summary of Related VOQ Reports

ODI reviewed all VOQ reports in its database relating to convertible top back glass separation in all MY Crossfire Roadsters. The review encompassed VOQ reports received from June 23, 2008 through July 8, 2015. As noted in Table 1, ODI analyzed 273 VOQ reports alleging some degree of rear glass separation. None of the VOQs alleged that rear glass separation was related to crashes, injuries, or fatalities. Out of the 273 VOQ's ODI reviewed, four alleged that the back glass separated from the vehicle onto the roadway.¹ Table 1 provides a summary count of the VOQ reports by model year.

¹ ODI spoke with 47 of the complainants including three that alleged a roadway incident. Two of the roadway complainants had experienced previous glass bonding issues prior to separation. There is no factual evidence (police accident reports, photos, repair invoices, etc.) for the roadway reports that confirms these allegations.

Table 1—Crossfire VOQ Reports by Model Year
Model year | Reports | Crashes | Injuries | Fatalities | Roadway
2005 | 211 | 0 | 0 | 0 | 3
2006 | 44 | 0 | 0 | 0 | 1
2007 | 9 | 0 | 0 | 0 | 0
2008 | 9 | 0 | 0 | 0 | 0
Total | 273 | 0 | 0 | 0 | 4

FMVSS No. 212; Windshield Mounting

This standard establishes the retention requirements for windshields in motor vehicle crashes. The purpose of the standard is to reduce injuries and fatalities in crashes by providing retention of a vehicles windshield during a crash by utilizing the penetration-resistance and injury-avoidance properties of the windshield glazing material and preventing occupant ejection from the vehicle. This standard does not apply to the back glass at issue in this petition. No other FMVSS establishes a minimum level of performance for back glass retention in either convertible or hard top vehicles.

IV. ODI's Assessment

The adhesive bond of the convertible top back glass to the top material can lose its bonding properties over time. From complainant descriptions, it appears that separation of the glass generally starts in a small area, possibly at a lower corner. Over time, the separation can progress around the glass to a point at which the glass is visibly and physically loose from the top material and in some cases can separate completely from the top. Because of the angle at which the glass is installed in the top it will tend to fall inside of the vehicle onto the tonneau cover, behind the only two available seats for the vehicle occupants. In addition, the glass panel in question is larger than the rear window opening in the convertible top. Therefore, the glass would have to rotate and move in several planes of motion to pass through the rear window opening after detaching from the top.

ODI has also previously examined rear window separation in the subject vehicles. Based on 11 VOQs reporting some degree of rear glass separation, ODI first examined rear glass separation in MY 2005 Chrysler Crossfire Roadsters in late 2009. Soon thereafter, ODI contacted Chrysler seeking complaint information concerning the issue. Chrysler provided a confidential response to ODI on January 29, 2010. Chrysler's response did not contain any information indicating that the separation of the rear glass in the subject vehicles posed an unreasonable risk to safety. However, Chrysler subsequently provided a limited extended warranty to some owners.

As part of this petition analysis, ODI sent an information request ² to FCA requesting information for any reports that resulted in any injury or fatality to any person either in the vehicle or outside of the vehicle; a vehicle crash or loss of control incident; or a back glass leaving the confines of the vehicle top. FCA's response to this request provided one report in which it was alleged that the back glass went off the back of the vehicle while being driven. FCA's response letter ³ explains that the Company believes that the back glass did not separate and fall off the back of the vehicle as alleged by the individual submitting the complaint to FCA. ODI also notes that FCA's May 19, 2015 response letter answering our information request for this petition erroneously concludes that ODI previously found that no safety defect existed when we reviewed information submitted by Chrysler on January 29, 2010. ODI's decision not to take further action at that time is not, as Chrysler suggests, a finding that no safety defect existed.

² Please see ODI's April 27, 2015 letter to FCA in file DP15-003.

³ See FCA DP15-003 response letter of May 19, 2015 in file DP15-003.

ODI's analysis, our second examination of Crossfire Roadster rear window separations, indicates that there are not any crashes, deaths or injuries related to this issue. The configuration of the window opening and the size of the window glass itself indicate that it is unlikely that the glass would pass through the window opening once the rear glass has completely separated from the convertible top. Further, although the petitioner states that Chrysler's extended warranty policy for these vehicles is unreasonable, the question that ODI must answer is whether the separation of the rear glass from the convertible top results in an unreasonable risk to safety. The evidence revealed by our analysis does not presently support such a finding.

V. Conclusion

For the reasons presented in the petition analysis, and after thorough assessment of the potential risks to safety, it is unlikely that an order concerning the notification and remedy of a safety-related defect would be issued as a result of granting Mr. Devries petition. After full consideration of the potential for finding a safety related defect in these vehicles and in view of the need to allocate and prioritize NHTSA's limited resources to best accomplish the agency's mission, the petition is respectfully denied.

This action does not constitute a finding by NHTSA that a safety-related defect does not exist. The Agency will take further action if warranted by future circumstances.

Authority: 49 U.S.C. 30162(d); delegations of authority at CFR 1.95 and 501.8.

Frank S. Borris, II,
Acting Associate Administrator for Enforcement.

[FR Doc. 2015-20380 Filed 8-18-15; 8:45 am]

BILLING CODE 4910-59-P